DEPARTMENT OF HEALTH AND HUMAN SERVICES

Indian Health Service

Proposed Information Collection: Request for Public Comment: 60-Day Notice

AGENCY: Indian Health Service, HHS.

ACTION: Request for public comment: 60-day proposed collection; IHS Scholarship Program Application.

SUMMARY: In compliance with section 3506(c)(2)(A) of the Paperwork Reduction Act of 1995, to provide a 60-day advance opportunity for public comment on proposed information collection projects, the Indian Health Service (IHS) is publishing for comment a summary of a proposed information collection to be submitted to the Office of Management and Budget (OMB) for review.

Proposed Collection: Title: 0917-0006, “IHS Scholarship Program Application.” Type of Information Collection Request: 3-year extension, with change, additional forms required for application. Form Number(s): IHS-856, 856-2 through 8856-8, IHS-815, IHS-816, IHS-817, IHS-818, D-02, F-02, F-04, G-02, G-04, H-07, H-08, J-04, J-05, K-03, K-04, and L-03. Reporting formats are contained in an IHS Scholarship Program application booklet. Need and Use of Information Collection: The IHS Scholarship Branch needs this information for program administration and uses the information to solicit, process and award IHS Pre-graduate, Preparatory and/or Health Professions Scholarship grantees and monitor the academic performance of awardees, to place awardees at payback sites, and for awardees to request additional program. The IHS Scholarship Program is streamlining the application to reduce the time needed by applicants to complete and provide the information and plans for using information technology to make the application electronically available on the internet. Affected Public: Individuals, not-for-profit institutions and State, local or Tribal Government. Type of Respondents: Students pursuing health care professions.

The table below provides: Types of data collection instruments, Estimated number of respondents, Number of responses per respondent, Annual number of responses, Average burden hour per response, and Total annual burden hour(s).

Data collection instrument(s) | Number of respondents | Responses per respondent | Total annual response | Burden hour per response* | Annual burden hours
Scholarship Application (IHS-856) | 1,500 | 1 | 1,500 | 1.00 (60 min) | 1,500
Checklist (856-2) | 1,500 | 1 | 1,500 | 0.13 (8 min) | 195
Course Verification (856-3) | 1,500 | 1 | 1,500 | 0.70 (42 min) | 1,050
Faculty/Employer Application (856-4) | 1,500 | 2 | 3,000 | 0.83 (50 min) | 2,490
Justification (856-5) | 1,500 | 1 | 1,500 | 0.75 (45 min) | 1,125
Federal Debt (856-6) | 1,500 | 1 | 1,500 | 0.13 (8 min) | 195
MPH only (856-7) | 25 | 1 | 25 | 0.83 (50 min) | 21
Accept/Decline (856-8) | 650 | 1 | 650 | 0.13 (8 min) | 84
Receipt of Application (815) | 1,500 | 1 | 1,500 | 0.03 (2 min) | 45
Address Change Notice (816) | 25 | 1 | 25 | 0.02 (1 min) | 25
Scholarship Program Agreement (817) | 850 | 1 | 850 | 0.05 (3 min) | 43
Stipend Checks (D-02) | 100 | 1 | 100 | 0.13 (8 min) | 13
Enrollment (F-02) | 1,300 | 1 | 1,300 | 0.13 (8 min) | 169
Academic Problem/Change (F-04) | 50 | 1 | 50 | 0.13 (8 min) | 6
Request Assistance (G-02) | 217 | 1 | 217 | 0.13 (8 min) | 28
Summer School (G-04) | 193 | 1 | 193 | 0.10 (6 min) | 19
Health Professions Contract (818) | 850 | 1 | 850 | 0.05 (3 min) | 33
Placement (H-07) | 250 | 1 | 250 | 0.18 (11 min) | 45
Graduation (H-08) | 250 | 1 | 250 | 0.17 (10 min) | 43
Site Preference (J-04) | 150 | 1 | 150 | 0.13 (8 min) | 20
Travel Reimb (J-05) | 150 | 1 | 150 | 0.10 (6 min) | 15
Status Report (K-03) | 250 | 1 | 250 | 0.25 (15 min) | 63
Preferred Assignment (K-04) | 200 | 1 | 200 | 0.75 (45 min) | 150
Request of Deferment (L-03) | 20 | 1 | 20 | 0.13 (8 min) | 3
Total | 15,830 |  |  |  | 7,380
* For ease of understanding, burden hours are also provided in actual minutes.

There are no Capital Costs, Operating Costs and/or Maintenance Costs to report.

Request for Comments: Your written comments and/or suggestions are invited on one or more of the following points: (a) Whether the information collection activity is necessary to carry out an agency function; (b) whether the agency processes the information collected in a useful and timely fashion; (c) the accuracy of public burden estimate (the estimated amount of time needed for individual respondents to provide the requested information); (d) whether the methodology and assumptions used to determine the estimate are logical; (e) ways to enhance the quality, utility, and clarity of the information being collected; and (f) ways to minimize the public burden through the use of automated, electronic, mechanical, or other technological collection techniques or other forms of information technology.

Send Comments and Requests For Further Information: Send your written comments, requests for more information on the proposed collection, or requests to obtain a copy of the data collection instrument(s) and instructions to: Ms. Chris Ingersoll, IHS Reports Clearance Officer, 12300 Twinbrook Parkway, Suite 450, Rockville, MD 20852-1610: call non-toll free (301) 443-5938, send via facsimile to (301) 443-2316, or send your e-mail requests, comments and return address to: cingerso@hqe.ihs.gov.

Comment Due Date: Your comments regarding this information collection are best assured of having their full effect if received within 60 days of the date of this publication.

Dated: February 17, 2004.
Michel Lincoln,
Deputy Director, Indian Health Service.

[FR Doc. 04-3866 Filed 2-23-04; 8:45 am]

BILLING CODE 4160-16-M